DEPARTMENT OF HOMELAND SECURITY

Transportation Security Administration

[Docket No. TSA-2006-24191]

Extension of Agency Information Collection Activity Under OMB Review: Transportation Worker Identification Credential Program

AGENCY: Transportation Security Administration, DHS.

ACTION: Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on December 3, 2007, 72 FR 67945. The collection mechanisms include (1) a Disclosure Form that requires a TWIC applicant to certify his/her eligibility and provide basic biographic information and (2) a customer satisfaction survey that evaluates an applicant's entire enrollment experience.

DATES: Send your comments by March 26, 2008. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA developed the TWIC program to mitigate security threats and vulnerabilities in the national maritime system. The TWIC is a biometric credential that is issued to all mariners and individuals who require unescorted access to maritime facilities and vessels. Before issuing an individual a credential, TSA performs a security threat assessment, which requires the collection of certain biographic and biometric information during the enrollment process. Each TWIC applicant must complete the TWIC Disclosure and Certification Form. This form provides the applicant a Privacy Act Notice and a Paperwork Reduction Act Statement, explains how an applicant's biographic information will be used, and requires each applicant to certify his/her eligibility for a TWIC, as required in the TWIC final rule. The TWIC Enrollment Customer Satisfaction Survey is entirely voluntary. However, participation is recommended to all applicants in order to provide the government key insights regarding the quality of each applicant's enrollment experience (initial enrollment through completion of card activation). The data collected from the surveys will be used for process improvements and contractor performance reviews.

The TWIC program implements authorities set forth in the Maritime Transportation Security Act of 2002 (MTSA) (Pub. L. 107-295; Nov. 25, 2002; sec. 102), and the Safe, Accountable, Flexible, Efficient Transportation Equity Act—A Legacy for Users (SAFETEA-LU) (Pub. L. 109-59; Aug. 10, 2005; sec. 7105), codified at 49 U.S.C. 5103a(g). TSA and the United States Coast Guard (Coast Guard) issued a joint final rule on January 25, 2007, cited in the Federal Register, 72 FR 3492.

Applicants may provide enrollment data electronically during an optional pre-enrollment step, via an enrollment Web site which streamlines the applicant's enrollment experience. Applicants who pre-enroll are able to provide all of the biographic information electronically that is required to complete enrollment and make an appointment at the enrollment center where enrollment must be completed in-person. During in-person enrollment, applicants pay the enrollment fee, complete a TWIC Disclosure and Certification Form (required of all applicants), provide and verify biographic information (if not already provided during pre-enrollment) and a complete set of fingerprints, and sit for a digital photograph. All applicants are required to provide acceptable documents to verify their identity and immigration status (if required) at this time as well. These documents are reviewed by the Trusted Agent and scanned into the electronic enrollment record. The current estimated annualized reporting burden is 1,353,100 hours and the estimated annualized cost burden is $14,779,500 (low)/$18,063,833 (high).

Title: Transportation Worker Identification Credential Program.

Type of Request: Extension of a currently approved collection mechanisms.

OMB Control Number: [1652-0047].

Forms(s): Transportation Worker Identification Credential (TWIC) Disclosure Form and Certifications, and TWIC Enrollment Customer Service Survey.

Affected Public: Individuals applying for a TWIC.

Abstract: The data collected will be used for processing TWIC enrollment and conducting the security threat assessment. At the enrollment center, applicants verify their biographic information and provide identity documentation, biometric information, and proof of immigration status (if required). This information allows TSA to complete a comprehensive security threat assessment.

If TSA determines that the applicant is qualified to receive a TWIC, TSA notifies the applicant that their TWIC is ready for activation. Once activated, this credential will be used for identification verification and access control.

Number of Respondents: 777,000.

Estimated Annual Burden Hours: An estimated 1,000,000 hours annually.

Issued in Arlington, Virginia, on February 15, 2008.
Fran Lozito,
Director, Business Management Office, Operational Process and Technology.

[FR Doc. E8-3467 Filed 2-22-08; 8:45 am]

BILLING CODE 9110-05-P